DEPARTMENT OF DEFENSE

Department of the Army; Corps of Engineers

Draft Environmental Impact Statement for the Preparation of a Special Area Management Plan and Associated 404 Permit Actions for the San Diego Creek Watershed, Orange County, CA

AGENCY: Department of Defense, Department of the Army, Corps of Engineers, Los Angeles District Regulatory Branch.

ACTION: Notice of intent to prepare a draft environmental impact statement (DEIS)/Joint EIS/EIR.

SUMMARY: The Corps of Engineers will prepare an EIS on a Special Are Management Plan (SAMP) and associated 404 permit actions in connection with future development, infrastructure maintenance and aquatic restoration in the San Diego Creek watershed in Orange County, California (SAMP study area). The EIS will address impacts of various land development and aquatic resource protection alternatives as set forth below and future identified during the preparation of the SAMP. The Corps of Engineers will prepare a joint Environmental Impact Statement/Environmental Impact Report (EIS/EIR) with the California Department of Fish and Game, which must issue other approvals for development in the watershed that affects watercourses under Sections 1601 and 1603 of the State Fish and Game Code.

The SAMP will provide a comprehensive plan for protecting and enhancing aquatic resources while providing for the permitting of reasonable economic development and public infrastructure in accordance with local land use plans and a regional Habitat Conservation Plan (Natural Community Conservation Plan) for Central/Coastal Orange County. The SAMP will provide a framework for a long-term programmatic permitting process for projects in the watershed subject to the Corps of Engineers' permit authority under Section 404 of the Clean Water Act regulating the discharge of fill or dredged materials into “waters of the United States.” In addition, the SAMP will include a comprehensive reserve program for the protection, restoration, and management of aquatic resources within the study area. Information in the EIS will be used to complete the SAMP, and to decide to issue or deny a long-term programmatic 404 permit for specific, identified projects, and criteria for permitting future projects that have not yet been identified.

Public Scoping

The Corps of Engineers invites the participation of affected state, federal, and local agencies and other interested persons in identifying issues of concern that should be addressed in the EIS pursuant to the National Environmental Policy Act (NEPA) and Section 404 of the Clean Water Act. Written comments on the scope of the EIS must be submitted to the address below by August 31, 2001. A public scoping meeting to receive input on the scope of the EIS will be conducted on Tuesday, August 14, 2001 at 6 pm at the Irvine Ranch Water District, 15600 Sand Canyon Avenue, Irvine, CA 92619. This will be a scoping meeting to address both the EIS for the SAMP and the EIR for the State Master 1600 Streambed Alteration Agreement (MSAA). The public scoping will be conducted in an open house format.

FOR FURTHER INFORMATION CONTACT: Dr. Fari Tabatabai, Regulatory Branch, CESPL-CO-RS, U.S. Army Corps of Engineers, Los Angeles District, 911 Wilshire Boulevard, Los Angeles, California 90017.

SUPPLEMENTARY INFORMATION:

1.0 Proposed Action

The Corps of Engineers and the Environmental Protection Agency developed the concept of a SAMP to assist in long-term planning for regulatory actions under Section 404 that involve-large areas, complex projects, and valuable aquatic resources.

The SAMP study area, San Diego Creek watershed, encompasses 32,000 hectares (122 square miles or 78,000 acres) in central Orange County, California. The watershed drains westerly into Upper Newport Bay. Urban areas within the SAMP study area include portions of Santa Ana, Tustin, Laguna Hills, Costa Mesa, Irvine, and Lake Forest. Large parts of the SAMP study area are currently developed for agriculture, residential and commercial uses. Aquatic resources in the remaining undeveloped portions of the SAMP study area consist of intermittent and ephemeral drainages, riparian wetlands, and small areas of alkali marshes. The major tributaries of San Diego Creek include Peters Canyon Wash, Hicks Canyon Wash, Rattlesnake Canyon Wash, Borrego Canyon Wash, Serrano Creek, Agua Chinon Wash, Bommer Canyon Creek, Shady Canyon Creek, Round Canyon Wash, Bee Canyon Wash, Trabuco Channel, Bonita Canyon Wash, and Sand Canyon Wash.

The SAMP will describe an approach and set of actions to preserve, enhance, and restore aquatic resources, while allowing reasonable economic development and construction and maintenance of public infrastructure facilities within the study area. Key objectives of the SAMP for the San Diego Creek watershed are to: (1) Evaluate the extent and condition of existing aquatic resources; (2) develop a comprehensive reserve program for the protection, restoration and management of aquatic resources; and (3) identify and evaluate alternative land development scenarios in the context of the aquatic resource reserve program.

Based on the SAMP, the Corps of Engineers will identify potential areas and/or evaluate proposed activities suitable for coverage using a programmatic permitting process under Section 404 of the Clean Water Act. These regulated activities would include residential, commercial, industrial, recreational development; public infrastructure such as roads and utilities; and maintenance of public facilities.

2.0 Other Involved Agencies

The Corps will develop the SAMP in close coordination with other agencies, including the U.S. Fish and Wildlife Service, California Department of Fish and Game, and U.S. Environmental Protection Agency, National Marine Fisheries Service, California Regional Water Quality Control Board, and California Coastal Commission, as necessary. The Corps encourages active participation by County and local governments, concerned landowners and the general public. The California Department of Fish and Game will participate in the SAMP process by formulating a MSAA under Section 1601 and 1603 of the California Fish and Game Code for development in the SAMP Study area that affects lakes, rivers, streams and associated riparian habitats subject to the Department's jurisdiction.

The environmental analysis and the SAMP will be a joint state and federal document. The California Department of Fish and Game will prepare a Program Environmental Impact Report (EIR) in accordance with the California Environmental Quality Act for the actions described in the SAMP. A separate Notice of Preparation will be prepared and published by the Department. The Corps of Engineers and the Department of Fish and Game will work cooperatively to prepare a joint EIS/EIR document, and to coordinate the public noticing and hearing processes under state and federal laws.

3.0 EIS Alternatives

The Corps of Engineers has identified the following alternatives to be addressed in the EIS. Other alternatives or variations of alternatives may be studied based on input during public scoping and the results of the EIS studies. The Corps anticipates that these will also be the alternatives in the EIR.

1. No Action Alternative—Land development or other activities would be limited to actions that do not require a Section 404 permit or a Section 1601 or 1 603 Agreement and that are consistent with the existing or future applicable local general plan. These non-regulated activities including construction outside of waters of the United States, use of existing urban areas and infrastructure, ongoing agricultural operations and other activities within the SAMP study area would continue indefinitely. The Corps would not prepare a SAMP and there would not be a comprehensive and coordinated approach to address potential impacts to aquatic resources.

2. No SAMP Alternative—Land development and other activities would proceed consistent with the existing or future applicable local general plan and programmatic 404 permit(s). In addition to the activities described in Alternative 1, land development and other activities that are consistent with the applicable local general plans would proceed using the existing Section 404, Section 1601 and 1603 regulatory processes. The Corps would not prepare a SAMP and there would not be a comprehensive and coordinated approach to address potential impacts to aquatic resources.

3. SAMP Alternative—Preparation of a SAMP with land development and other activities which may require modifications to applicable local land-use general plans and Habitat Conservation Plans that seek to maximize the opportunities to protect, restore and manage aquatic resources. One or more modifications to existing applicable local general land-use plans would be developed that seek to promote additional benefits to aquatic resources while achieving reasonable economic development growth. A watershed-wide aquatic resource reserve program to protect, restore and manage aquatic resources would be developed that is consistent with these modifications. Programmatic Section 404 Permit(s) would be issued for specifically identified activities and permitting criteria would be established for other future activities pursuant to the requirements of Section 404 of the Clean Water Act. The California Department of Fish and Game will formulate a Master Streambed Alteration Agreement under Section 1601 and 1603 of the California Fish and Game Code for development in the SAMP Study area.

The EIS would also address alternative methods and institutional arrangements for aquatic resource reserve management.

4.0 Key Environmental Issues

The EIS will address impacts associated with future land development in the watershed and actions to protect aquatic resources, as identified in the SAMP. The key environmental impacts to be addressed in the EIS are listed below:

• Aquatic resources—potential effects of proposed use alternatives on the functional integrity and extent of aquatic resources due to altered biological, hydrological, and water quality conditions in the study area. Indirect impacts of land development and human activities in close proximity resources will also be addressed.

• Water quality—potential effects on the quality of surface and ground water due to construction activities in the watershed, and due to urban stormwater runoff associated with future development. To the extent feasible, the SAMP will address water quality issues on a programmatic basis.

• Threatened and endangered species—potential adverse effects on listed aquatic-dependent species. The Corps will consult with the Fish and Wildlife Service under Section 7 of the Endangered Species Act concerning potential effects on listed species, such as the least Bell's vireo (Vireo belli pusilius) and the southwestern willow flycatcher ( Empidonax traillii extimus), and designated critical habitat within the SAMP Study area.

• Cultural Resources—potential impacts on archelogical, ethnographic, paleontologic, and historic resources. The Corps of Engineers will comply with comply with the consultation requirements under Section 106 of the National Historic Preservation Act.

5.0 Schedule

A Daft EIS is expected to be issued for public review in Spring 2002.

Dated: June 23 2001.
Richard G. Thompson,
Colonel, Corps of Engineers, District Engineer.

[FR Doc. 01-19040 Filed 7-30-01; 8:45 am]

BILLING CODE 3710-KF-M